EXPORT-IMPORT BANK

Economic Impact Policy

This notice is to inform the public that the Export-Import Bank of the United States has received an application for a $448 million loan guarantee to support the export of approximately $542 million in U.S. semiconductor manufacturing equipment and services to a (non-DRAM) semiconductor manufacturing facility in Singapore. The U.S. exports will enable the foreign buyer to manufacture about 80,000 wafers of 300mm NAND Flash memory semiconductors per month. Available information indicates that this new foreign production will be consumed globally. Interested parties may submit comments on this transaction by email to economic.impact@exim.gov or by mail to 811 Vermont Avenue NW., Room 442, Washington, DC 20571, within 14 days of the date this notice appears in the Federal Register.

Angela Mariana Freyre,
Senior Vice President and General Counsel.

[FR Doc. 2012-31376 Filed 12-28-12; 8:45 am]

BILLING CODE 6690-01-P